Title 3—

The President

Proclamation 7983 of February 24, 2006

Irish-American Heritage Month, 2006

By the President of the United States of America

A Proclamation

The histories of Ireland and the United States are deeply intertwined. For generations, the sons and daughters of Ireland have come to America with a spirit of determination and optimism that has strengthened our Nation's character and enriched our history. During Irish-American Heritage Month, we celebrate Irish Americans and the significant contributions they have made to our Nation.

During the Great Potato Famine of the 19th century, approximately 1 million Irish came to America. And over the last 150 years, millions more have come from Ireland to the United States. In this country, Irish Americans have ably served in their communities, in the government, and in the Armed Forces. They have achieved great success in all walks of life. Actress Grace Kelly entertained us and influenced our culture; industrialist Henry Ford transformed factory production and transportation; and President Ronald Reagan dedicated himself to the spread of peace, liberty, and democracy, helping to change our country and the world.

This month, we recognize the proud history and many accomplishments of Irish Americans. Our Nation is grateful for the role they have played in defending and renewing the ideals that we cherish. Their hard work, firm values, and strong faith have made our Nation a better place.

NOW, THEREFORE I, GEORGE W. BUSH, President of the United States of America, by virtue of the authority vested in me by the Constitution and laws of the United States, do hereby proclaim March 2006 as Irish-American Heritage Month. I call upon all Americans to observe this month by celebrating the contributions of Irish Americans to our Nation.

IN WITNESS WHEREOF, I have hereunto set my hand this twenty-fourth day of February, in the year of our Lord two thousand six, and of the Independence of the United States of America the two hundred and thirtieth.

B

[FR Doc. 06-1969

Filed 2-28-06; 8:45 am]

Billing code 3195-01-P